DEPARTMENT OF JUSTICE

Notice of Lodging of Proposed Consent Decree Under the Clean Water Act

On December 13, 2012, the Department of Justice lodged a proposed a consent decree with the United States District Court for the Middle District of Pennsylvania in the lawsuit entitled United States v. Sewer Authority of the City of Scranton, Civil Action No. 3:09-cv-1873.

The United States filed this lawsuit under the Clean Water Act. The United States' complaint seeks injunctive relief and civil penalties for violations of the Clean Water Act and certain terms of the National Discharge Elimination System (NPDES) permit issued to the SSA pursuant to the CWA, relating to the municipal wastewater treatment plant and collection system owned and operated by the SSA. The consent decree requires the defendant to implement a long term control plan to address combined sewer overflows by December 1, 2037 and to pay a $340,000 civil penalty, 50% to the United States and 50% to the Pennsylvania Department of Environmental Protection.

The publication of this notice opens a period for public comment on the consent decree. Comments should be addressed to the Assistant Attorney General, Environment and Natural Resources Division, and should refer to United States v. Scranton Sewer Authority, D.J. Ref. No. 90-5-1-1-08778. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $20.00 (25 cents per page reproduction cost) payable to the United States Treasury.

Robert Brook,
Assistant Section Chief, Environmental Enforcement Section, Environment and Natural Resources Division.

[FR Doc. 2012-30669 Filed 12-19-12; 8:45 am]

BILLING CODE 4410-15-P